DEPARTMENT OF HEALTH AND HUMAN SERVICES

National Institutes of Health

National Cancer Institute; Cancellation of Meeting

Notice is hereby given of the cancellation of the National Cancer Institute Special Emphasis Panel, June 7, 2013, 10:00 a.m. to June 7, 2013, 1:00 p.m., National Institutes of Health, National Cancer Institute, 9609 Medical Center Drive, Room 7W640, Rockville, MD, 20850 which was published in the Federal Register on May 14, 2013, 78 FR 11346.

Meeting has been canceled.

Dated: May 17, 2013.
Melanie J. Gray,
Program Analyst, Office of Federal Advisory Committee Policy.

[FR Doc. 2013-12255 Filed 5-22-13; 8:45 am]

BILLING CODE 4140-01-P